DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT:

OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On February 25, 2021, OFAC determined that the property and interests in property subject to U.S. jurisdiction of the following persons are blocked under the relevant sanctions authority listed below.

Individual

1. AL ASIRI, Ahmad Hassan Mohammed (a.k.a. AL-ASIRI, Ahmed; a.k.a. AL-ASSIRI, Ahmed; a.k.a. ASSERI, Ahmed Hassan M.; a.k.a. ASSIRI, Ahmed), King Abdullah Rd., Ishbilyah, Riyadh, Saudi Arabia; DOB 15 Oct 1966; POB Tabok, Saudi Arabia; nationality Saudi Arabia; Gender Male; Passport D106103 (Saudi Arabia) expires 05 Oct 2021 (individual) [GLOMAG].

Designated pursuant to section 1(a)(ii)(A) of Executive Order 13818 of December 20, 2017, “Blocking the Property of Persons Involved in Serious Human Rights Abuse or Corruption,” 82 FR 60839, 3 CFR, 2018 Comp., p. 399, (E.O. 13818) for being a foreign person who is responsible for or complicit in, or has directly or indirectly engaged in, serious human rights abuse.

Entity

1. RAPID INTERVENTION FORCE (a.k.a. FIRQAT EL-NEMR; a.k.a. SAUDI RAPID INTERVENTION GROUP; a.k.a. “TIGER SQUAD”), Saudi Arabia; Organization Established Date 2015 [GLOMAG] (Linked To: AL-QAHTANI, Saud).

Designated pursuant to section 1(a)(iii)(B) of E.O. 13818 for being owned or controlled by, or for having acted or purported to act for or on behalf of, directly or indirectly, AL-QAHTANI, Saud, a person whose property and interests in property are blocked pursuant to E.O. 13818.

Dated: February 25, 2021.
Bradley T. Smith,
Acting Director, Office of Foreign Assets Control.

[FR Doc. 2021-04699 Filed 3-5-21; 8:45 am]

BILLING CODE 4810-AL-P